DEPARTMENT OF EDUCATION

Office of Elementary and Secondary Education; Title I, Part C—Education of Migratory Children

AGENCY: Department of Education.

ACTION: Notice of funding level for fiscal year (FY) 2001 consortium incentive grants available under Part C of Title I of the Elementary and Secondary Education Act of 1965.

SUMMARY: The Assistant Secretary for Elementary and Secondary Education reserves $2,300,000 for FY 2001 consortium incentive grant awards authorized under section 1308(d) of Title I of the Elementary and Secondary Education Act of 1965. (The FY 2001 Appropriations Act for the Department (P.L. 106-554) authorizes the Department to reserve up to $3,000,000 for these grant awards, notwithstanding the $1,500,000 ceiling in the authorizing statute). State educational agencies (SEAs) operating Migrant Education Programs (MEPs) are the only eligible entities for this formula grant program. Criteria for an SEA's receipt of consortium incentive grants were published in the Federal Register on April 8, 1996 (61 FR 15670).

FOR FURTHER INFORMATION CONTACT: Mr. James English, U.S. Department of Education, 400 Maryland Avenue, SW., Rm. 3E315, Washington, DC 20202-6135. Telephone: 202-260-1394. Email: james.english@ed.gov. Individuals who use a telecommunications device for the deaf (TDD) may call the Federal Information Relay System (FIRS) at 1-800-877-8339.

Individuals with disabilities may obtain this document in an alternative format (e.g., Braille, large print, or computer diskette) on request of the contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Number 84.144, Migrant Education Coordination Program)

Program Authority: 20 U.S.C. 6398(d).

Dated: June 14, 2001.
Thomas M. Corwin,
Acting Deputy Assistant Secretary for Elementary and Secondary Education.

[FR Doc. 01-15555 Filed 6-19-01; 8:45 am]

BILLING CODE 4000-01-M